INTERNATIONAL TRADE COMMISSION

[Investigation Nos. 701-TA-502 and 731-TA-1227 (Final)]

Steel Concrete Reinforcing Bar From Mexico and Turkey; Determinations

On the basis of the record ¹ developed in the subject investigations, the United States International Trade Commission (“Commission”) determines, pursuant to sections 705(b) and 735(b) of the Tariff Act of 1930 (19 U.S.C. 1671d(b)) and (19 U.S.C. 1673d(b)) (“the Act”), that an industry in the United States is materially injured by reason of imports from Mexico of steel concrete reinforcing bar (“rebar”) that have been found by the Department of Commerce (“Commerce”) to be sold in the United States at less than fair value, and by reason of imports from Turkey of rebar that have been found by Commerce to be subsidized by the government of Turkey. The subject merchandise is provided for primarily in subheadings 7213.10.00 and 7214.20.00 and statistical reporting number 7228.30.8010 of the Harmonized Tariff Schedule of the United States.²

¹ The record is defined in sec. 207.2(f) of the Commission's Rules of Practice and Procedure (19 CFR 207.2(f)).

² All six Commissioners voted in the affirmative. The Commission also finds that imports subject to Commerce's affirmative critical circumstances determinations are not likely to undermine seriously the remedial effect of the antidumping duty order on rebar from Mexico and the countervailing duty order on rebar from Turkey.

Background

The Commission instituted these investigations effective September 4, 2013, following receipt of a petition filed with the Commission and Commerce by the Rebar Trade Action Coalition and its individual members: Nucor Corporation, Charlotte, NC; Gerdau Ameristeel U.S. Inc., Tampa, FL; Commercial Metals Company, Irving, TX; Cascade Steel Rolling Mills, Inc., McMinnville, OR; and Byer Steel Corporation, Cincinnati, OH. The final phase of the investigations was scheduled by the Commission following notification of preliminary determinations by Commerce regarding imports of rebar from Mexico and Turkey.³ Notice of the scheduling of the final phase of the Commission's investigations and of a public hearing to be held in connection therewith was given by posting copies of the notice in the Office of the Secretary, U.S. International Trade Commission, Washington, DC, and by publishing the notice in the Federal Register on May 30, 2014 (79 FR 31136). The hearing was held in Washington, DC, on September 15, 2014, and all persons who requested the opportunity were permitted to appear in person or by counsel.

³ On February 26, 2014, Commerce preliminarily determined that imports of rebar from Turkey were not subsidized within the meaning of section 703(b) of the Act (19 U.S.C. 1671b(b)) (79 FR 10771). On April 24, 2014, Commerce preliminarily determined that imports of rebar from Mexico and Turkey were dumped within the meaning of 733(b) of the Act (19 U.S.C. 1673b(b)) (79 FR 22802-22804). On September 15, 2014, Commerce published notice of its final affirmative determination of countervailable subsidies for producers and exporters of rebar from Turkey (79 FR 54963), its final affirmative determination of sales at less than fair value with respect to imports from Mexico (79 FR 54967), and its final negative determination of sales at less than fair value with respect to imports from Turkey (79 FR 54965).

The Commission completed and filed its determinations in these investigations on October 28, 2014. The views of the Commission are contained in USITC Publication 4496 (October 2014), entitled Steel Concrete Reinforcing Bar from Mexico and Turkey: Investigation Nos. 701-TA-502 and 731-TA-1227 (Final).

Issued: October 28, 2014.
By order of the Commission.
Lisa R. Barton,
Secretary to the Commission.

[FR Doc. 2014-25996 Filed 10-31-14; 8:45 am]

BILLING CODE 7020-02-P